DEPARTMENT OF COMMERCE

National Institute of Standards and Technology

Public Meeting To Gather Information and Data Relating to the World Trade Center Disaster for Building and Fire Safety Purposes

AGENCY: National Institute of Standards and Technology, Commerce.

ACTION: Notice of public meeting.

SUMMARY: The National Institute of Standards and Technology (NIST) of the United States Department of Commerce has scheduled a public meeting to gather information for a proposed building and fire safety investigation of the World Trade Center disaster. Individuals and representatives of organizations who have information that could be helpful to such an investigation are invited to request a place on the agenda. The total number of speakers and organizations, and the time available for each, will be determined by the number of requests, but the time is likely to be 5 to 10 minutes each. Speakers who wish to expand upon their oral statements, those who wish to speak but cannot be accommodated on the agenda due to the constraints of time, and those who are unable to attend in person are invited to submit written statements and supporting material to the WTC Technical Information Repository

DATES: The meeting will be held on April 22, 2002, from 8:00 AM to 4:00 PM.

ADDRESSES: The meeting will be held at the New York Marriott Hotel, Financial Center, located at: 85 West Street, New York, NY, 10006. Telephone number is: (212) 385-4900.

FOR FURTHER INFORMATION CONTACT: Stephen Cauffman, (301) 975-6051 or by e-mail at stephen.cauffman@nist.gov. Written statements and supporting material should be submitted to the WTC Technical Information Repository, Building and Fire Research Laboratory, National Institute of Standards and Technology, MS 8610, Gaithersburg, MD 20899-8610 or electronically by e-mail to WTC@NIST.gov or by Fax to (301) 975-4052.

SUPPLEMENTARY INFORMATION: Specific technical issues of interest to NIST are the following:

• The probable technical causal factors for the collapse of the World Trade Center towers following the airplane impacts;

• Factors that led to the injuries and fatalities, including all technical aspects of fire protection, response, evacuation, and occupant behavior and emergency response;

• The procedures and practices used in the design, construction, operation, and maintenance of the World Trade Center towers;

• New technologies and procedures emerging that might be employed in the future to reduce the potential risks of such a collapse; and

• Building and fire codes, standards, and practices that might warrant revision.

To request an opportunity to speak, NIST must receive the following information via e-mail (WTC@NIST.gov) or FAX ((301)-975-4052) no later than 5:00 PM on April 17, 2002:

• Name and contact information (including FAX, phone and/or e-mail) of individual who will be speaking

• Name and complete address of organization(s) speaker represents

• Specific technical issue that is being discussed (from above list)

Those who are selected to speak will be contacted by 12:00 noon on April 19, 2002, using the FAX, phone or e-mail address provided. Speakers who wish to expand upon their oral statements, those who wish to speak but cannot be accommodated on the agenda due to the constraints of time, and those who are unable to attend in person are invited to submit written statements and supporting material to the WTC Technical Information Repository, Building and Fire Research Laboratory, National Institute of Standards and Technology, MS 8610, Gaithersburg, MD 20899-8610 or electronically by e-mail to WTC@NIST.gov or by Fax to (301) 975-4052.

Statements made at the meeting and/or submitted to NIST may be recorded and transcribed and made available to the public at a later date. The meeting will be webcast and linked to the NIST home page, http://www.nist.gov/.

Dated: April 2, 2002.
Karen H. Brown,
Deputy Director.

[FR Doc. 02-8385 Filed 4-5-02; 8:45 am]

BILLING CODE 3510-13-P